SOCIAL SECURITY ADMINISTRATION

Agency Information Collection Activities: Proposed Request and Comment Request

The Social Security Administration (SSA) publishes a list of information collection packages that will require clearance by the Office of Management and Budget (OMB) in compliance with Pub. L. 104-13, the Paperwork Reduction Act of 1995, effective October 1, 1995. The information collection packages that may be included in this notice are for new information collections, approval of existing information collections, revisions to OMB-approved information collections, and extensions (no change) of OMB-approved information collections.

SSA is soliciting comments on the accuracy of the agency's burden estimate; the need for the information; its practical utility; ways to enhance its quality, utility, and clarity; and on ways to minimize burden on respondents, including the use of automated collection techniques or other forms of information technology. Written comments and recommendations regarding the information collection(s) should be submitted to the OMB Desk Officer and the SSA Reports Clearance Officer. The information can be mailed and/or faxed to the individuals at the addresses and fax numbers listed below:

(OMB)

Office of Management and Budget, Attn: Desk Officer for SSA, New Executive Building, Room 10235, 725 17th St., NW, Washington, DC 20503, Fax: 202-395-6974.

(SSA)

Social Security Administration, DCFAM, Attn: Reports Clearance Officer, 1338 Annex Building, 6401 Security Blvd., Baltimore, MD 21235, Fax: 410-965-6400.

I. The information collections listed below are pending at SSA and will be submitted to OMB within 60 days from the date of this notice. Therefore, your comments should be submitted to SSA within 60 days from the date of this publication. You can obtain copies of the collection instruments by calling the SSA Reports Clearance Officer at 410-965-0454 or by writing to the address listed above.

1. Employee Identification Statement—20 CFR 404.702—0960-0473. The information collected on Form SSA-4156 is needed in scrambled earnings situations when two or more individuals have used the same social security number (SSN), or when an employer (or employers) have reported earnings for two or more employees under the same SSN. The information on the form is used to help identify the individual (and the SSN) to whom the earnings belong. The respondents are employers who have reported erroneous wages.

Type of Request: Extension of an OMB-approved information collection.

Number of Respondents: 4,750.

Frequency of Response: 1.

Average Burden Per Response: 10 minutes.

Estimated Average Burden: 792 hours.

2. The Census Bureau Survey of Income and Program Participation (SIPP) on Behalf of the Social Security Administration (SSA)—0960-NEW. SSA has requested the Census Bureau to include in its SIPP interviews scheduled for January 2005 a sample of social security disabled insurance beneficiaries and supplemental security income recipients. SSA will use these data to conduct statistical research of recipients of SSA-administered programs. The SIPP for SSA Beneficiaries is a household-based survey molded around a central “core” of labor force and income questions. The core is supplemented with questions designed to address specific needs, such as obtaining information about assets and liabilities, as well as expenses related to work, health care, child support and real estate/dependent care. These supplemental questions are included with the core and are referred to as “topical modules.”

The topical modules for the SIPP for SSA Beneficiaries collect information about:

• Medical Expenses and Utilization of Health Care (Adults and Children)

• Work-Related Expenses, Child Support Paid and Child Care Poverty

• Assets, Liabilities, and Eligibility

• Dependent Care.

The survey will include approximately 2,000 households. We estimate that each household will average 2.1 people, yielding 4,200 interviews. On average interviews take 45 minutes. The survey interviews will be conducted from January 1, 2005 through January 31, 2005.

Type of Request: New Information Collection.

Number of Respondents: 4,200.

Frequency of Response: 1.

Average Burden Per Response: 45 minutes.

Estimated Annual Burden: 3,150 hours.

3. Request for Waiver of Special Veterans Benefits (SVB) Overpayment Recovery or Change in Repayment Rate—0960-NEW

Background

Section 251 of the Foster Care Independence Act of 1999, P.L. 106-169, added Title VIII to the Social Security Act (Special Benefits for Certain World War II veterans). Title VIII allows for the payments of monthly benefits to qualified World War II veterans who reside outside the United States. When an overpayment in SVB occurs, the beneficiary can request a waiver of recovery of the overpayment or a change in the overpayment rate.

The Information Collection

Form SSA-2032-BK will be used by SSA to obtain the information necessary to determine whether the provisions of the Act regarding waiver of recovery of the overpayment are met. The information on the form is needed to determine a repayment rate if repayment cannot be waived. The information will be collected by personnel in SSA field offices, U.S. Embassies or consulates, or the Veterans Affairs Regional Office in the Philippines. Respondents to the SSA-2032 are beneficiaries who have overpayments on their Title VIII record and wish to file a claim for waiver of recovery or change in repayment rate.

Type of Request: New Information Collection.

Number of Respondents: 39.

Frequency of Response: 1.

Average Burden Per Response: 120 minutes.

Estimated Annual Burden: 78 hours.

II. The information collections listed below have been submitted to OMB for clearance. Your comments on the information collections would be most useful if received by OMB and SSA within 30 days from the date of this publication. You can obtain a copy of the OMB clearance packages by calling the SSA Reports Clearance Officer at 410-965-0454, or by writing to the address listed above.

1. Representative Payee Evaluation Report—20 CFR 404.2065 and 416.665—0960-0069. The information on form SSA-624 is used by SSA to accurately account for the use of Social Security benefits and Supplemental Security Income payments received by representative payees on behalf of an individual. The respondents are individuals and organizations who received form SSA-623 or SSA-6230 (Representative Payee Report) and failed to respond, provided unacceptable responses that could not be resolved or reported a change in custody.

Type of Request: Extension of an OMB-approved information collection.

Number of Respondents: 252,000.

Frequency of Response: 1.

Average Burden per Response: 30 minutes.

Estimated Average Burden: 126,000 hours.

2. Disability Hearing Officer's Report of Disability Hearing—20 CFR 416.1407, 404.917, and 416.1417—0960-0440. The information on Form SSA-1205-BK is used by the Disability Hearing Officers (DHOs) at the Social Security Administration (SSA) as a guide to conducting and recording disability hearings. It ensures that all of the pertinent issues are considered. The respondents are DHOs in the State Disability Determination Services and Federal DHOs.

Type of Request: Extension of an OMB-approved information collection.

Number of Respondents: 100,000.

Frequency of Response: 1.

Average Burden Per Response: 60 minutes.

Estimated Annual Burden: 100,000 hours.

3. Waiver of Your Right to Personal Appearance Before an Administrative Law Judge—20 CFR 404.948(b)(l)(i) and 416.1448(b)(l)(i)—0960-0284. Each claimant has a statutory right to appear in person (or through a representative) and present evidence about his/her claim at a hearing before an Administrative Law Judge (ALJ). If a claimant wishes to waive his/her statutory right to appear before an ALJ, he/she must complete a written request. The claimant may use Form HA-4608 for this request. The information collected is used to document an individual's claim to show that an oral hearing is not preferred in the appellate process. The respondents are applicants for Social Security and Supplemental Security Income benefits who request a hearing.

Type of Request: Extension of an OMB-approved information collection.

Number of Respondents: 12,000.

Frequency of Response: 1.

Average Burden Per Response: 2 minutes.

Estimated Annual Burden: 400 hours.

4. Beneficiary Recontact Report—20 CFR 404.703 and 404.705—0960-0536. SSA collects the information on Form SSA-1587 to ensure that eligibility for benefits continues after entitlement is established. SSA asks representative payees of children ages 15-17 information about marital status to detect possible overpayments and avoid continuing payment to those no longer entitled. Studies show that the representative payees of children who marry often fail to report the marriage, which is a terminating event. The respondents are payees who receive Title II (Old-Age, Survivors and Disability Insurance) benefits on behalf of children ages 15-17.

Type of Request: Extension of an OMB-approved information collection.

Number of Respondents: 982,357.

Frequency of Response: 1.

Average Burden Per Response: 3 minutes.

Annual Burden: 49,118.

5. Request for Correction of Earnings Record—20 CFR 404.820 and 422.125-0960-0029. Form SSA-7008 is used by individual wage earners to request SSA review, and if necessary correction of the Agency's master record of their earnings. The respondents are individuals who question SSA's record of their earnings. Note: Please note that the burden data listed below differ from those published in the 60-day advance Notice at 69 FR 31442. This discrepancy is due to the Agency receiving updated burden information since publication of the 60-day Notice.

Type of Request: Extension of an OMB-approved information collection.

Number of Respondents: 375,000.

Frequency of Response: 1.

Average Burden Per Response: 10 minutes.

Estimated Annual Burden: 62,500 hours.

6. Statement of Agricultural Employer (Years prior to 1988); Statement of Agricultural Employer (1988 and later)—20 CFR 404.702, 404.802, and 404.1056—0960-0036. The information on forms SSA-1002 and SSA-1003 is used by SSA to resolve discrepancies when farm workers allege their employers did not report their wages or reported them incorrectly. The respondents are agricultural employers.

Type of Request: Extension of an OMB-approved information collection.

| SSA-1002 | SSA-1003
Number of Respondents | 75,000 | 50,000
Frequency of Response | 1 | 1
Average Burden Per Response (minutes) | 10 minutes | 30 minutes
Estimated Annual Burden (hours) | 12,500 hours | 25,000 hours

Total Estimated Annual Burden: 37,500 hours.

7. Medical Report (General)—20 CFR 404.1512-.1515 and 416.912-.915-0960-0052. The information collected on form SSA-3826-F4 is used by SSA to determine a claimant's physical status prior to making a disability determination. This information is also placed in the claimant's disability claims folder to provide written medical evidence which is used in the disability determination decision. The respondents are physicians, hospitals, directors and medical records librarians.

Type of Request: Extension of an OMB-approved information collection.

Number of Respondents: 750,000.

Frequency of Response: 1.

Average Burden Per Response: 30 minutes.

Estimated Annual Burden: 375,000 hours.

8. Request for Change in Time/Place of Disability Hearing—20 CFR 404.914(c)(2) and 416.1414(c)(2)—0960-0348. The information on Form SSA-769 is used by SSA and the State Disability Determination Services to provide claimants with a structured format to exercise their right to request a change in the time or place of a scheduled disability hearing. The information is used as a basis for granting or denying requests for changes and for rescheduling hearings. The respondents are claimants who wish to request a change in the time or place of their disability hearing.

Type of Request: Extension of an OMB-approved information collection.

Number of Respondents: 7,483.

Frequency of Response: 1.

Average Burden Per Response: 8 minutes.

Estimated Annual Burden: 998 hours.

9. Agency/Employer Government Pension Offset Questionnaire—20 CFR 404-408a-0960-0470. The information collected by form SSA-L4163 provides SSA with accurate information from the agency paying a claimant's pension. This form is only used when (1) the claimant does not have the necessary information and (2) the pension-paying agency has not cooperated with the claimant in providing this information. Respondents are Federal, State, or local government agencies that have information needed by SSA to determine whether the Government Pension Offset provisions apply and if so, what is the amount of the offset.

Type of Request: Extension of an OMB-approved information collection.

Number of Respondents: 1,000.

Frequency of Response: 1.

Average Burden Per Response: 3 minutes.

Estimated Annual Burden: 50 hours.

10. Letter to Custodian of Birth Records/Letter to Custodian of School Records—20 CFR 404.704, 404.716, 416.802, and 422.107-0960-NEW. The information collected by form SSA-L706 is used to assist a claimant in obtaining evidence necessary to establish a date of birth. The respondents are applicants for Social Security benefits.

Type of Request: New information collection.

Number of Respondents: 7,200.

Frequency of Response: 1.

Average Burden Per Response: 10

Estimated Annual Burden: 1,200 hours.

11. Certificate of Coverage Request Form—0960-0554. The United States (U.S.) has Social Security agreements with 20 countries. These agreements eliminate double Social Security coverage and taxation where a period of work would be subject to coverage and taxes in both countries. The individual agreements contain rules for determining the country under whose laws the period of work will be covered and to whose system taxes will be paid. The agreements further provide that upon the request of the worker or employer, the country under whose system the period of work is covered will issue a certificate of coverage. The certificate serves as proof of exemption from coverage and taxation under the system of the other country. The information collected is needed to determine if a period of work is covered by the U.S. system under an agreement and to issue a certificate of coverage. The respondents are workers and employers wishing to establish an exemption from foreign Social Security taxes.

Type of Request: Extension of an OMB-approved information collection.

Number of Respondents: 46,000.

Frequency of Response: 1.

Average Burden Per Response: 30 minutes.

Estimated Annual Burden: 23,000 hours.

Dated: July 23, 2004.
Elizabeth A. Davidson,
Reports Clearance Officer, Social Security Administration.

[FR Doc. 04-17333 Filed 7-29-04; 8:45 am]

BILLING CODE 4191-02-P